DEPARTMENT OF THE INTERIOR

Bureau of Land Management

[MT-030-1320-EL, NDM 91535]

Notice of Availability of a Draft Environmental Impact Statement To Lease a Coal Tract in North Dakota

AGENCY: Bureau of Land Management, Interior.

ACTION: Notice of availability of a Draft Environmental Impact Statement to lease a coal tract in Mercer Co., North Dakota.

SUMMARY: Under the National Environmental Policy Act (NEPA) implementing regulations and other applicable statutes and regulations, the Bureau of Land Management (BLM) announces the availability of a Draft Environmental Impact Statement (DEIS) that has been prepared for coal resources administered by the BLM. The BLM is considering leasing approximately 5,600 acres of Federal coal adjacent to the Freedom Mine, Mercer County, North Dakota. The public is invited to review and comment on proposed alternatives and associated environmental impacts.

DATES: The comment period will end 60 days after the Environmental Protection Agency's Notice of Availability (NOA) is published in the Federal Register announcing release of this DEIS.

ADDRESSES: Written comments should be sent to: Coal Team, Bureau of Land Management, North Dakota Field Office, 2933 3rd Ave W, Dickinson, ND 58601; or via telefax to (701) 227-8510. Review copies will be available at the following locations:

BLM North Dakota Field Office (701) 227-7700;

Bismarck Veterans Memorial Public Library (701) 222-6410;

Beulah Public Library (701) 873-2884;

Dickinson Public Library (701) 456-7700;

Hazen Public Library (701) 748-2977;

Mandan Public Library (701) 667-3255;

Fort Berthold Cultural Preservation Office (701) 627-4399;

Standing Rock Cultural Preservation Office (701) 854-2120;

Fort Peck Cultural Preservation Office (406) 768-5478.

The DEIS may also be viewed online at the North Dakota Field Office Web site: http://www.mt.blm.gov/ndfo.

FOR FURTHER INFORMATION CONTACT: Lee Jefferis, Project Manager, at (701) 227-7713, or Doug Burger, Field Manager, at (701) 227-7703.

Public Comment Procuedures: Comments must be received on or before the end of the comment period at the address or fax number listed above. For comments to be most helpful, they should relate to specific concerns or conflicts within the legal responsibility of the BLM. Comments, including names and street addresses of respondents, will be available for public review at the North Dakota Field Office during regular business hours, 7:45 a.m. to 4:30 p.m., Monday through Friday, except holidays. Responses to the comments will be published as part of the Final Environmental Impact Statement. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

SUPPLEMENTARY INFORMATION: Coteau Properties Company applied to lease 5,571 acres of Federal coal beneath private surface in Mercer County, west-central North Dakota. The DEIS analyzes the environmental consequences of three alternatives, including a No-Action (No Leasing) Alternative, which were developed with public involvement during the scoping process. Potential concerns include impacts to cultural resources, air quality, water resources, soils, land use, vegetation, wildlife, environmental justice, and socio-economics.

The Freedom Mine, which is adjacent to the proposed expansion area, is approved to remove 15-16 million tons of coal per year. Addition of Federal coal would extend the life of Freedom Mine by about 6 years.

Public meetings will be held as folows:

Public meetings will be held as follows:
June 1, 2004 | Public Meeting | 4 Bears Casino & Lodge, 202 Frontage Road, New Town, ND, 6:30 p.m.—8 p.m., Mandan and Hidatsa Rooms | 6:30 p.m.-8 p.m.
June 2, 2004 | Public Meeting | Civic Center, 120 7 Av NE., Beulah, ND | 6:30 p.m.-8 p.m.
June 3, 2004 | Public Meeting | Prairie Knights Casino & Lodge, 7932 Highway 24, Fort Yates, ND, Room 801 (main floor) | 6:30 p.m.-8 p.m.
June 23, 2004 | Hearing on DEIS/Maximum Economic Recovery/Fair Market Value | State Capital Grounds, Heritage Center, 612 East Boulevard Avenue, Bismarck, ND | 7 p.m.-10 p.m.

Meetings and the Hearing will also be announced through public notices, media news releases, and on the North Dakota Web site at http://www.mt.blm.gov/ndfo.

After comments are reviewed and relevant adjustments made, a Final Environmental Impact Statement will be prepared and is expected to be available in late 2004.

Dated: March 31, 2004.
Douglas J. Burger,
Field Manager.

[FR Doc. 04-10439 Filed 5-6-04; 8:45 am]

BILLING CODE 4310-$$-P